DEPARTMENT OF THE INTERIOR

Geological Survey

[GX12RB00CMF2400]

Agency Information Collection Activities: Proposed Information Collection; Economic Contribution of Federal Investments in Restoration of Degraded, Damaged, or Destroyed Ecosystems

AGENCY: U.S. Geological Survey (USGS), Interior.

ACTION: Notice; request for comments for a new information collection.

SUMMARY: We (the U.S. Geological Survey) will ask the Office of Management and Budget (OMB) to approve the information collection (IC) described below. As required by the Paperwork Reduction Act of 1995 and as part of our continuing efforts to reduce paperwork and respondent burden, we invite the general public and other Federal agencies to take this opportunity to comment on this IC. We may not conduct or sponsor, and a person is not required to respond to, a collection of information unless it displays a currently valid OMB control number.

DATES: To ensure that we are able to consider your comments on this IC we must receive them on or before January 17, 2012.

ADDRESSES: Direct all written comments on this IC to Shari Baloch, Information Collection Clearance Officer, U.S. Geological Survey, 12201 Sunrise Valley Drive mail stop 807 (mail) or smbaloch@usgs.gov (email). Please reference IC 1028-NEW (ECFIRA) in the subject line.

FOR FURTHER INFORMATION CONTACT: Dr. Lynne Koontz, U.S. Geological Survey, 2150-C Centre Ave, Fort Collins, CO 80526 (mail); koontzl@usgs.gov (email); or: (970) 226-9384 (phone).

SUPPLEMENTARY INFORMATION:

I. Abstract

Under the American Restoration and Recovery Act (ARRA) (Pub. L. 111-5) and via U.S. Department of the Interior (DOI) and U.S. Department of Agriculture (USDA) management agencies, restoration projects to mitigate environmental damages and to improve the health and resiliency of terrestrial, freshwater and marine ecosystems are currently in progress. Federal investments in ecosystem restoration and monitoring protect Federal trusts, ensure public health and safety, and preserve and enhance essential ecosystem services; furthermore, these investments create jobs. An emphasis on quantifying the relationship between job creation and investments in ecological restoration is evident in the goals of the ARRA, Agriculture Secretary Vilsack's emphasis on tying management actions to rural jobs (Farm Service Agency Office of Communications, 2010), and Interior Secretary Salazar's annual report on the Department's economic contribution to the Nation's economy (Department of the Interior, 2009). The need to better understand the connection between restoring the health and productivity of ecosystems and the resulting economic benefits to local communities is also illustrated in a recent report by the President's Council of Advisors on Science and Technology, which calls on the federal government to better prioritize the approximately $10 billion it spends each year on ecological restoration and biodiversity preservation. Though a few small, localized studies have been carried out to measure jobs created or supported by investments in certain types of ecosystem restoration, they are not useful at a national scale due to regional variations and variations in study methods and objectives. Without data on the proportion of restoration costs typically spent on labor, equipment, supplies and other expenditures, the economic contribution generated by federal investments in restoration cannot be estimated.

The USGS plans to conduct a nationwide telephone survey to elicit expenditure pattern information from contractors that conduct restoration work for the DOI and the USDA. The objective of this survey is to estimate the economic job and income contribution current and proposed restoration activities generate in surrounding communities. Collection of these data is necessary to improve agency decision making on individual restoration projects, to prioritize spending across restoration projects, and to meet internal guidelines for credible economic analysis. This notice will cover the development and pretesting of the final survey instrument.

II. Data

OMB Number: 1028-New.

Title: Economic Contribution of Federal Investments in Restoration of Degraded, Damaged, or Destroyed Ecosystems.

Type of Request: This is a new collection.

Affected Public: DOI and USDA restoration contractors registered on the Federal Procurement Data System.

Respondent Obligation: Voluntary.

Frequency of Collection: One time only.

Estimated Total Number of Annual Respondents: 7,500.

Estimated Total Annual Responses: 6,000.

Estimated Time per Response: 15 minutes.

Estimated Total Annual Burden Hours: 1,500 hours.

Estimated Reporting and Recordkeeping “Non-Hour Cost” Burden: We have not identified any “non-hour cost” burdens associated with this collection of information.

III. Request for Comments

Comments are invited on: (1) Whether or not the collection of information is necessary, including the practical utility of the information being gathered; (2) the accuracy of the burden hour estimate for this collection of information; (3) ways to enhance the quality, utility, and clarity of the information to be collected; and (4) ways to minimize the burden to respondents, including use of automated information techniques or other forms of information technology.

Please note that the comments submitted in response to this notice are a matter of public record. We will include or summarize each comment in our request to OMB to approve this IC. Before including your address, phone number, email address, or other personal identifying information in your comment, you should be aware that your entire comment, including your personal identifying information, may be made publicly available at any time. While you can ask OMB in your comment to withhold your personal identifying information from public review, we cannot guarantee that it will be done.

Dated: October 20, 2011.
Ione Taylor,
Associate Director, Energy and Minerals, and Environmental Health Programs.

[FR Doc. 2011-29425 Filed 11-14-11; 8:45 am]

BILLING CODE 4311-AM-P